DEPARTMENT OF THE INTERIOR

Bureau of Land Management

[AZ-030-1610-DH; AZA-31733]

Correction to Notice of Realty Action and Intent To Amend the Kingman Resource Management Plan

AGENCY: Bureau of Land Management, Interior.

ACTION: Correction to Notice of Realty Action and Intent to Amend the Kingman Resource Management Plan.

SUMMARY: On March 26, 2003, the Bureau of Land Management published a notice in the Federal Register (68 FR 14687) concerning a proposed Shooting Range in Arizona. The notice contained an incorrect timeframe for when the public comment period ends. The correct timeframe is 45 days (May 10, 2003).

FOR FURTHER INFORMATION CONTACT: Joyce Cook, Realty Specialist, Kingman Field Office, 2475 Beverly Avenue, Kingman, Arizona, 86401, telephone (928) 692-4428.

Correction

In the Federal Register of March 26, 2003 on page 14687 correct the “Dates” caption to read:

DATES: The public is invited to identify issues and concerns addressed in the EA to be prepared for the potential RMP amendment. Submissions should be in writing or by e-mail (see addresses below). Comments must be postmarked no later than 45 days following the date of publication of this notice in the Federal Register. Future public involvement activities, opportunities and review/comment periods will be announced at least 15 days in advance through other notices, media releases, or mailings. A public open house will be held on the Mohave Valley Campus of Mohave Community College, Room 210, 3400 Highway 95, Bullhead City, Arizona.

Dated: March 26, 2003.
Robin A. Sanchez,
Acting Field Manager, Kingman Field Office.

[FR Doc. 03-7742 Filed 3-31-03; 8:45 am]

BILLING CODE 4310-32-P